INTERNATIONAL TRADE COMMISSION

Filing Procedures

AGENCY: International Trade Commission.

ACTION: Notice of issuance of Handbook on Filing Procedures.

SUMMARY: The United States International Trade Commission (“Commission”) is issuing a Handbook on Filing Procedures to replace its Handbook on Electronic Filing Procedures. The revision is necessary to implement a new Commission requirement for electronic filing of most documents with the agency. The intended effects of the change are to increase efficiency in processing documents filed with the Commission, reduce Commission expenditures, and conform agency processes to federal government initiatives.

DATES: Effective Date: November 7, 2011.

FOR FURTHER INFORMATION CONTACT: James R. Holbein, Secretary, telephone (202) 205-2000 or Gracemary R. Roth-Roffy, telephone (202) 205-3117, Office of the General Counsel, United States International Trade Commission. Hearing-impaired individuals are advised that information on this matter can be obtained by contacting the Commission's TDD terminal at 202-205-1810. General information concerning the Commission may also be obtained by accessing its Internet server at http://www.usitc.gov.

SUPPLEMENTARY INFORMATION: On July 6, 2011, the Commission published a notice of proposed rulemaking concerning its rules on filing, and a notice that it proposed to issue a Handbook on Electronic Filing Procedures. The Commission sought public comment on these initiatives. Comments were received, and have been taken into account in the preparation of the final version of the Handbook. The comments and the Commission's responses to the comments are set out in the notice of final rulemaking that is being published concurrently with this notice. The Commission now gives notice that a final version of the Handbook is being issued, and that it will go into effect at the same time as the revised rules. Once the Handbook is in effect, persons seeking to file documents will be required to comply with the revised Handbook on Filing Procedures, which will supersede the Commission's current Handbook on Electronic Filing Procedures. The final version of the Handbook on Filing Procedures is available on the Commission's Web site, at https://edis.usitc.gov.

Issued: September 29, 2011.
By Order of the Commission.
James R. Holbein,
Secretary to the Commission.

[FR Doc. 2011-25645 Filed 10-5-11; 8:45 am]

BILLING CODE 7020-02-P